DEPARTMENT OF ENERGY

Federal Energy Regulatory Commission

[Project No. 14327-000]

Pershing County Water Conservation District; Notice of Intent To File License Application, Filing of Pre-Application Document, and Approving Use of the Traditional Licensing Process/Alternative Licensing Procedures

a. Type of Filing: Notice of Intent to File License Application and Request to Use the Traditional Licensing Process/Alternative Licensing Procedures.

b. Project No.: 14327-000.

c. Date Filed: November 22, 2011.

d. Submitted by: Pershing County Water Conservation District (Pershing County).

e. Name of Project: Humboldt River Hydroelectric Project.

f. Location: At the existing Department of the Interior—Bureau of Reclamation's Rye Patch Dam on the Humboldt River, in Pershing County, Nevada. The project occupies 0.01 acre of United States lands administered by the Bureau of Reclamation.

g. Filed Pursuant to: 18 CFR 5.3 of the Commission's regulations.

h. Potential Applicant Contact: Bennie Hodges, Pershing County Water Conservation District, P.O. Box 218, Lovelock, NV 89419; (775) 273-2293.

i. FERC Contact: Shana Murray at (202) 502-8333; or email at shana.murray@ferc.gov.

j. Pershing County filed its request to use the Traditional Licensing Process/Alternative Licensing Procedures on November 22, 2011. Pershing County provided public notice of its request on November 22, 2011. In a letter dated February 24, 2012, the Director of the Division of Hydropower Licensing approved Pershing County's request to use the Traditional Licensing Process.

k. With this notice, we are initiating informal consultation with: (a) The U.S. Fish and Wildlife Service and/or NOAA Fisheries under section 7 of the Endangered Species Act and the joint agency regulations thereunder at 50 CFR, Part 402; (b) NOAA Fisheries under section 305(b) of the Magnuson-Stevens Fishery Conservation and Management Act and implementing regulations at 50 CFR 600.920; and (c) the Nevada State Historic Preservation Officer, as required by section 106, National Historical Preservation Act, and the implementing regulations of the Advisory Council on Historic Preservation at 36 CFR 800.2.

l. Pershing County filed a Pre-Application Document (PAD), including a proposed process plan and schedule, with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov or toll free at 1-866-208-3676, or for TTY, (202) 502-8659. A copy is also available for inspection and reproduction at the address in paragraph h.

n. Register online at http://www.ferc.gov/docs-filing/esubscription.asp to be notified via email of new filing and issuances related to this or other pending projects. For assistance, contact FERC Online Support.

Dated: February 24, 2012.
Kimberly D. Bose,
Secretary.

[FR Doc. 2012-5134 Filed 3-1-12; 8:45 am]

BILLING CODE 6717-01-P